LIBRARY OF CONGRESS

U.S. Copyright Office

[Docket No. 2015-7]

Section 512 Study: Notice of Location Change for California Public Roundtables

AGENCY: U.S. Copyright Office, Library of Congress.

ACTION: Notice of location change for California public roundtables.

SUMMARY: The United States Copyright Office has changed the location of the May 12 and 13, 2016 public roundtables on the section 512 study. The Office announced the public roundtables in New York and California by notice in the Federal Register on March 18, 2016. See 81 FR 14896. The May 12 and 13, 2016 public roundtables in California will now be held in Courtroom 4 of the Ninth Circuit James R. Browning Courthouse, 95 Seventh Street, San Francisco, California 94103.

Dates and Addresses

The California roundtable will take place on May 12 and 13, 2016, from 9:00 a.m. to 5:00 p.m. on both days, and will be held in Courtroom 4 of the Ninth Circuit James R. Browning Courthouse, 95 Seventh Street, San Francisco, California 94103.

FOR FURTHER INFORMATION CONTACT: Jacqueline C. Charlesworth, General Counsel and Associate Register of Copyrights, jcharlesworth@loc.gov; or Karyn Temple Claggett, Director of the Office of Policy and International Affairs and Associate Register of Copyrights, kacl@loc.gov. Both can be reached by telephone at 202-707-8350.

SUPPLEMENTARY INFORMATION: On December 31, 2015, the Copyright Office issued a Notice of Inquiry seeking public comment on thirty topics concerning the efficiency and effectiveness of section 512 of Title 17. See 80 FR 81862. The Office then issued a notice of public roundtables on March 18, 2016 announcing two two-day public roundtables on section 512 to be held in New York, New York on May 2 and 3, 2016, and Stanford, California on May 12 and 13, 2016. See 81 FR 14896. Interested members of the public were directed to submit participation requests through forms posted on the Office's Web site no later than April 11, 2016.

Due to the significant level of interest in the proceeding, the Office has decided to move the location of the California roundtable to Courtroom 4 of the Ninth Circuit James R. Browning Courthouse, 95 Seventh Street, San Francisco, California 94103.

Please note that the roundtable hearing rooms, in New York and California, will have a limited number of seats for participants and observers. For individuals who wish to observe a roundtable, the Office will provide public seating on a first-come, first-served basis on the days of the roundtables.

Individuals selected for participation in one or more of the roundtable sessions have been notified directly by the Office. For additional information about the specific topics to be covered at the roundtables, please see http://copyright.gov/policy/section512/public-roundtable/participate-request.html.

Dated: April 22, 2016.
Jacqueline C. Charlesworth,
General Counsel and Associate Register of Copyrights, U.S. Copyright Office.

[FR Doc. 2016-09869 Filed 4-26-16; 8:45 am]

BILLING CODE 1410-30-P